FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011666-001

Title: West Coast North America/Pacific Islands Vessel Sharing Agreement

Parties:

Hamburg-Südamerikanische Dampfschifffahrts-Gesellschaft KG

Polynesia Line Ltd.

Fesco Ocean Management Ltd.

Synopsis: The proposed amendment corrects the name of Hamburg-Süd and adds Fesco Ocean Management Ltd. as an additional party.

Agreement No.: 011737-002

Title: The MCA Agreement

Parties:

Crowley Liner Services, Inc.

Cho Yang Shipping Co., Ltd.

CMA CGM S.A.

Compania Chilena De Navegacion Interoceanica S.A. Mexican Line Limited.

Lykes Lines Limited, LLC

Tecmarine Lines, Inc.

Tropical Shipping & Construction Co., Ltd.

Allianca Navegacao E. Logistica Ltda.

Hamburg-Südamerikanische Dampfschifffahrts-Gesellschaft

Synopsis: The proposed amendment adds Hamburg Sud, d.b.a. Columbus Line and Crowley American Transport., as a party to the agreement.

Agreement No.: 011766

Title: Contship/CMA CGM-Safmarine Space Charter Agreement

Parties:

CMA CGM S.A.

Contship Containerlines Limited

Safmarine Container Lines NV

Synopsis: The proposed agreement authorizes Contship and CMA CGM to charter space to Safmarine on vessels operated pursuant to FMC Agreement No. 011692 in the trade between the U.S. Atlantic Coast and ports in India, Sri Lanka, Southeast Asia from Bangladesh to the Philippines and countries bordering on the Red and Mediterranean Seas.

Dated: May 25, 2001.
By order of the Federal Maritime Commission.
Bryant L. VanBrakle,
Secretary.

[FR Doc. 01-13698 Filed 5-31-01; 8:45 am]

BILLING CODE 6730-01-P